NUCLEAR REGULATORY COMMISSION

[NRC-2025-0808]

Draft Regulatory Issue Summary: Combined License Review Performance and Reporting

AGENCY: Nuclear Regulatory Commission.

ACTION: Notice; request for comment.

SUMMARY: The U.S. Nuclear Regulatory Commission (NRC) is seeking public comment on a draft regulatory issue summary (RIS) that discusses the review performance and reporting requirements for a combined license application review in accordance with the requirements in Section 207 of the ADVANCE Act (Accelerating Deployment of Versatile, Advanced Nuclear for Clean Energy Act of 2024). NRC regulations provide requirements for the issuance of combined licenses.

DATES: Submit comments by September 18, 2025. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2025-0808. Address questions about Docket IDs in Regulations.gov to Bridget Curran; telephone: 301-415-1003; email: Bridget.Curran@nrc.gov. For technical questions, contact the individual(s) listed in the For Further Information Contact section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Carolyn Lauron, Office of Nuclear Reactor Regulation, U.S. Nuclear Regulatory Commission, Washington, DC 20555-0001; telephone: 301-415-2736; email: Carolyn.Lauron@nrc.gov.

SUPPLEMENTARY INFORMATION:

I. Obtaining Information and Submitting Comments

A. Obtaining Information

Please refer to Docket ID NRC-2025-0808 when contacting the NRC about the availability of information for this action. You may obtain publicly available information related to this action by any of the following methods:

• Federal Rulemaking Website: Go to https://www.regulations.gov and search for Docket ID NRC-2025-0808.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft RIS 2025-XX, “Combined License Review Procedure,” is available in ADAMS under Accession No. ML25121A010.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0808 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

The NRC's mission is to protect public health and safety and advance the Nation's common defense and security by enabling the safe and secure use and deployment of civilian nuclear energy technologies and radioactive materials through efficient and reliable licensing, oversight, and regulation for the benefit of society and the environment. The NRC is committed to reviewing all license applications in an effective and efficient manner and employing risk informed approaches to inform the scope of the NRC staff review.

Executive Order (E.O.) 14300, “Ordering the Reform of the Nuclear Regulatory Commission,” issued May 23, 2025, requires the NRC to reform and modernize its regulations to include a “deadline of no more than 18 months for final decision on an application to construct and operate a new reactor of any type, commencing with the first required step in the regulatory process.” The NRC will comply with the review timeline in the E.O.

The NRC staff conducted public meetings on December 12, 2024, and January 28, 2025, to receive comments, feedback, and ideas on how the NRC should implement the requirement in ADVANCE Act Section 207. In addition, the NRC staff conducted a meeting on March 4, 2025, to solicit feedback on its approach for developing the draft RIS, “Combined License Review Performance and Reporting.” A summary of the public comments, feedback, and ideas received and considered in the development of the draft RIS may be found in ADAMS under Accession Nos. ML25033A001 (package), ML25041A145, and ML25066A073 (package), respectively.

III. Proposed Action

The NRC is requesting public comments on the draft RIS. All comments that are to receive consideration in the final RIS must be submitted electronically or in writing as indicated in the ADDRESSES section of this document. The NRC staff will make a final determination regarding issuance of the RIS after it considers any public comments received in response to this request.

IV. Executive Order 12866

The Office of Information and Regulatory Affairs determined that this draft RIS is not a significant regulatory action under E.O. 12866.

(Authority: 42 U.S.C. 2011 et seq.)

Dated: August 28, 2025.
For the Nuclear Regulatory Commission.
Michele Sampson,
Director, Division of New and Renewed Licenses, Office of Nuclear Reactor Regulation.

[FR Doc. 2025-16835 Filed 9-2-25; 8:45 am]

BILLING CODE 7590-01-P